Title 3—

The President

Proclamation 10163 of March 31, 2021

César Chávez Day, 2021

By the President of the United States of America

A Proclamation

In his time, César E. Chávez witnessed a booming economy that served those at the top, but left millions of hardworking Americans behind—and he earned an enduring place in history by standing strong for the rights and dignity of the working people who built and sustained our Nation. Today, on what would have been his 94th birthday, we summon his courage and moral clarity to guide us as we face the ongoing challenges of a pandemic, a deeply unequal economic crisis, and a long overdue national reckoning on racial and economic justice. As we work to recover and rebuild an economy that rewards hard work and brings everyone along—including the immigrants and farm workers he championed, as well as the essential workers carrying our Nation on their backs today—we have no finer role model than César Chávez.

His legacy as the founder, along with Dolores Huerta, of the United Farm Workers of America, reminds us of the central place that organizing and collective bargaining holds in advancing the dignity and wellbeing of working Americans. It's a reminder that the power of workers coming together to bargain for a better deal is what built the American middle class and made possible the American dream. Chávez taught us: “Our ambitions must be broad enough to include the aspirations and needs of others, for their sakes and for our own.” That most American of sentiments is as resonant today as it has ever been, as we seek to build back our Nation in a way that brings every single one of us along.

He fasted. He marched. He organized. He stayed true to his convictions, and brought hope to millions for whom hope had often seemed too far away. To him, “La Causa” meant elevating our common humanity to the center of an agenda for progress. And that elevation meant organizing for safe and healthy workplaces, a living wage, protections against sickness and disability, time with family, and so much else that we continue to prize and fight for today.

I keep that lesson in my heart every day—and I was proud to place a bust of César Chávez in the Oval Office, so that no one who enters that historic room may forget the powerful truths his farm worker hands imparted. On César Chávez Day, let us recommit ourselves to the duty we have in service to one another to work toward equity and justice across our communities.

NOW, THEREFORE, I, JOSEPH R. BIDEN JR., President of the United States of America, by virtue of the authority vested in me by the Constitution and the laws of the United States, do hereby proclaim March 31, 2021, as César Chávez Day. I call upon all Americans to observe this day as a day of service and learning, with appropriate service, community, and education programs to honor César Chávez's enduring legacy.

IN WITNESS WHEREOF, I have hereunto set my hand this thirty-first day of March, in the year of our Lord two thousand twenty-one, and of the Independence of the United States of America the two hundred and forty-fifth.

[FR Doc. 2021-07054

Filed 4-2-21; 8:45 am]

Billing code 3295-F1-P